DEPARTMENT OF TRANSPORTATION

Pipeline and Hazardous Materials Safety Administration

[Docket No. PHMSA-2015-0099, Notice No. 15-7]

Hazardous Materials: Emergency Response Information Requirements

AGENCY: Pipeline and Hazardous Materials Safety Administration (PHMSA), DOT.

ACTION: Notice.

SUMMARY: PHMSA is issuing this notice to remind hazardous materials shippers and carriers of their responsibility to ensure that current, accurate and timely emergency response information is immediately available to emergency response officials for shipments of hazardous materials, and such information is maintained on a regular basis.

FOR FURTHER INFORMATION CONTACT: Neal Suchak, Transportation Specialist, Standards and Rulemaking Division, Office of Hazardous Materials Safety, Pipeline and Hazardous Materials Safety Administration, U.S. Department of Transportation, 1200 New Jersey Ave. SE., Washington, DC 20590. Telephone: (202) 366-8553 or, via email: neal.suchak@dot.gov.

SUPPLEMENTARY INFORMATION:

Background and Recent Incidents

PHMSA is issuing this safety advisory notice to remind offerors, including re-offerors, and carriers of hazardous materials of their responsibilities pertaining to emergency response information. The Hazardous Materials Regulations (HMR; 49 CFR parts 171-180), specifically Subpart G of Part 172, prescribe requirements for detailed emergency response information, including, accessibility and communication of incident mitigation measures.

On February 16, 2015 a CSX train carrying 109 cars of petroleum crude oil derailed in Mt. Carbon, WV. The accident resulted in the derailment of 26 tank cars, 14 of which caught fire. On March 5, 2015, a BNSF train carrying 103 cars of petroleum crude oil derailed in Galena, Il. Of the 21 cars derailed involved in the incident, five caught fire. While the Department is still investigating the circumstances of these incidents, they serve as a reminder that accurate and accessible emergency response information can be a critical component for an adequate emergency response effort.

History

On June 27, 1989, the Research and Special Programs Administration (RSPA; the predecessor to PHMSA) published a final rule in the Federal Register that codified requirements to provide certain emergency response information on hazardous materials during their transportation. The final rule emphasized the importance for carriers and first responders to have first-hand, up-to-date, technical and emergency response information for hazardous materials to minimize the consequences and protect property and life where possible in the event of emergency incidents. This rulemaking action was issued as a result of the investigation by the National Transportation Safety Board (NTSB) of an accident which occurred near Odessa, Delaware in October 1982. Following the investigation, the NTSB issued Safety Recommendation I-83-2, which among other provisions, recommended that RSPA, “Determine by mode of transportation the feasibility of requiring comprehensive product-specific emergency response information, such as Material Safety Data Sheets, to be appended to shipping documents for hazardous materials.” ¹ The requirements issued in the final rule were “intended to provide specific information relative to the hazards of the materials being transported and provide immediate initial emergency response guidance until further specific information can be obtained from the shipper or others relative to long-term mitigation actions.” ²

¹ http://www.ntsb.gov/safety/safety-recs/recletters/I83_2.pdf.

² 54 FR 27142 (HM-126C).

Current Requirements

With limited exceptions, the HMR require shipments of hazardous materials to be accompanied by shipping papers and other documentation designed to communicate to transport workers and emergency responders the hazards associated with a specific shipment. This information must include the immediate hazard to health; risks of fire or explosion; immediate precautions to be taken in the event of an accident; immediate methods for handling fires; initial methods for handling spills or leaks in the absence of fire; and preliminary first aid measures. The information must be in writing, in English, and presented on a shipping paper or related shipping document. The offeror of a hazardous material is responsible for ensuring the emergency response information is current, correct, and accurate. Re-offerors are permitted to rely on previous data provided they take no intermediate action, such as blending or mixing the material.

A delay or improper response due to a lack of accurate or timely emergency response information may place emergency response personnel, transportation workers, and the general public or the environment at increased risk. Expeditious identification of the hazards and proper instructions for appropriate handling and clean up associated with specific hazardous materials is critical to quickly mitigating the consequences of unintended releases of hazardous materials and other incidents.

Section 172.600(b) of the HMR requires persons who offer for transportation, accept for transportation, transfer, or otherwise handle hazardous materials during transportation to provide emergency response information including an emergency response telephone number. Therefore, the responsibility to provide emergency response information is not solely that of an offeror. This responsibility is shared by those who offer, accept, transfer, or otherwise handle hazardous materials during transportation and must be completed prior to offering hazardous materials into transportation. A current safety data sheet (SDS) that includes accurate emergency response information for the product being shipped, although not required, is one form of information that may be used to satisfy the emergency response information requirements.

Section 172.602(a)(1) requires that the emergency response information contain the basic description and technical name of the hazardous material as required by §§ 172.202 and 172.203(k). Section 172.602(b)(3) requires that the emergency response information be presented (i) on a shipping paper; (ii) in a document, other than a shipping paper, that includes both the basic description and technical name of the hazardous material (e.g. safety data sheet); or (iii) related to the information on a shipping paper, in a separate document (e.g., an emergency response guidance document such as the most current revision of the Emergency Response Guidebook (ERG)), in a manner that cross references the description of the hazardous material on the shipping paper with the emergency response information contained in the document. If a guide number page from the ERG is used, it must include the basic description and, if applicable, the technical name of the hazardous material. If the entire ERG is present, however, the requirements of § 172.602 are satisfied.

Emergency response information must also be immediately available for use. Section 172.600(c) requires any person who offers, accepts, transfers or otherwise handles hazardous materials during transportation not do so unless emergency response information is immediately available for use at all times the hazardous material is present. Additionally, emergency response information, including the emergency response telephone number, must be immediately available to any person who, as a representative of a Federal, State or local government agency, responds to an incident involving a hazardous material, or is conducting an investigation which involves a hazardous material. Section 172.602(c) prescribes the maintenance of emergency response information. This information must be immediately accessible to train crew personnel, drivers of motor vehicles, flight crew members, and bridge personnel on vessels for use in the event of incidents involving hazardous materials. Carriers must maintain emergency response information in the same manner as prescribed for shipping papers (Subpart C of Part 172 of the HMR).

Emergency response information must be accompanied by an emergency response telephone number in accordance with § 172.604. This telephone number must be monitored at all times the hazardous material is in transportation, including storage incidental to transportation. The telephone number must be of a person who is either knowledgeable of the hazardous material being shipped and has comprehensive emergency response and incident mitigation information for that material, or has immediate access to a person who possess such knowledge and information.

NTSB Safety Recommendation R-14-18

As a result of the November 30, 2012 accident in which a Consolidated Rail Corporation train containing hazardous materials derailed, spilling vinyl chloride into Mantua Creek in Paulsboro, New Jersey, the NTSB issued a number of new Safety Recommendations. Among the recommendations issued to PHMSA was R-14-18, which urged PHMSA to “take action to ensure that emergency response information carried by train crews is consistent with and is at least as protective as existing emergency response guidance provided in the Emergency Response Guidebook.” ³ We are considering possible alternatives, including regulatory action, to affect this recommendation.

³ http://phmsa.dot.gov/pv_obj_cache/pv_obj_id_F69209B2F102C36FDEBED674D65AC72854380300/filename/NTSB_R-14-18_to-21_(8-22-14).pdf.

Conclusion

Emergency response information is a critical component of hazardous materials safety. The responsibility to provide accurate and timely information is a shared responsibility for all persons involved in the transportation of hazardous materials. It is a shipper's responsibility to provide accurate emergency response information that is consistent with both the information provided on a shipping paper and the material being transported. Likewise, re-offerors of hazardous materials must ensure that this information can be verified to be accurate, particularly if the material is altered, mixed or otherwise repackaged prior to being placed back into transportation. In addition, carriers must ensure that emergency response information is maintained appropriately, is accessible and can be communicated immediately in the event of a hazardous materials incident. Fulfilling these responsibilities is critical in reducing the severity of a hazardous materials incident and reduces the risk to emergency response personnel, transportation workers, and the general public.

Issued in Washington, DC on April 17, 2015.
Timothy P. Butters,
Acting Administrator, Pipeline and Hazardous Materials Safety Administration.

[FR Doc. 2015-09436 Filed 4-22-15; 8:45 am]

BILLING CODE 4910-60-P